FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012348.

Title: APL/Hamburg Sud Space Charter Agreement.

Parties: APL Co. Pte Ltd. and American President Lines, Ltd. acting as one party; Hamburg Sud Amerikanische Dampfschifffahrts-Gesellschaft KG.

Filing Party: Eric. C. Jeffrey, Esq.; Nixon Peabody LLP; 799 9th Street NW., Suite 500; Washington, DC 20001.

Synopsis: The agreement authorizes APL to charter space to Hamburg Sud in the trade from China, Hong Kong and Korea on the one hand to the U.S. West Coast on the other hand.

Agreement No.: 201227-003.

Title: Pacific Ports Operational Improvements Agreement.

Parties: Ocean Carrier Equipment Management Association, Inc.; West Coast MTO Agreement; Maersk Line A/S; APL Co. Pte Ltd.; American President Lines, Ltd., CMA CGM S.A., Cosco Container Lines Company Limited, Evergreen Line Joint Service Agreement Agreement; Hamburg-Sud, Alianca Navegacao e Logistica Ltda.; Hanjin Shipping Co., Ltd.; Hapag-Lloyd AG; Hapag-Lloyd USA; Companhia Libra de Navegacao; Compania Libra de Navegacion Uruguay S.A.; Mitsui O.S.K. Lines, Ltd.; Nippon Yusen Kaisha Line; Kawasaki Kisen Kaisha, Ltd.; Hyundai Merchant Marine Co., Ltd.; Zim Integrated Shipping Services; Matson Navigation Company, Inc.; APM Terminals Pacific, Ltd.; California United Terminals, Inc.; Eagle Marine Services, Ltd.; International Transportation Service, Inc.; Long Beach Container Terminal, Inc.; Seaside Transportation Service LLC; Total Terminals LLC; West Basin Container Terminal LLC; Pacific Maritime Services, LLC; SSA Terminal (Long Beach), LLC; Trapac Inc.; Yusen Terminals, Inc.; SSA Terminals, LLC; SSA Terminal (Oakland), LLC; SSA Terminals (Seattle), LLC; Sea Star Stevedoring Company, Inc.; Washington United Terminals, Inc.

Filing Party: David F. Smith, Esq., Cozen O'Connor, 1627 I Street NW., Suite 1100, Washington, DC 20006.

Synopsis: The amendment would add Mediterranean Shipping Company as a party to the agreement, and update the address for California United Terminal, Inc. The parties have requested Expedited Review.

By Order of the Federal Maritime Commission.
Dated: June 26, 2015.
Karen V. Gregory,
Secretary.

[FR Doc. 2015-16231 Filed 7-1-15; 8:45 am]

BILLING CODE 6731-AA-P